FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Debt Collection Financial Statement.

Type of Information Collection: Revision of a currently approved collection.

OMB Number: 3067-0122.

Abstract: FEMA Form 22-13, Debt Collection Financial Statement is submitted by FEMA's debtors listing name, addresses and other identifying data, their employment and income, their property and their debts. Debtors submit these statements when requesting installment repayment plans or termination of collection actions due to poverty or suspension or when compromising debts owed to FEMA.

Affected Public: Individuals or Households.

Number of Respondents: 600.

Estimated Time per Respondent: 45 minutes.

Estimated Total Annual Burden Hours: 450 hours.

Frequency of Response: On Occasion.

Comments

Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Section, Program Services and Systems Branch, Facilities and Services Management Division, Administration and Resource Planning Directorate, Federal Emergency Management Agency, 500 C Street, SW., Room 316, Washington, DC 20472, telephone number (202) 646-2625 or facsimile number (202) 646-3347, or e:mail muriel.anderson@fema.gov.

Dated: August 22, 2001.
Reginald Trujillo,
Branch Chief, Program Services and Systems Branch, Facilities and Services Management Division, Administration and Resource Planning Directorate.

[FR Doc. 01-22102 Filed 8-31-01; 8:45 am]

BILLING CODE 6718-01-P